FEDERAL COMMUNICATIONS COMMISSION

47 CFR Part 73

[DA 08-1711; MB Docket No. 08-150; RM-11390]

Radio Broadcasting Services; Asbury and Maquoketa, IA, and Mineral Point, WI

AGENCY: Federal Communications Commission.

ACTION: Proposed rule.

SUMMARY: The Audio Division at the request of KM Radio of Independence, LLC, licensee of Station KQMG-FM, Independence, Iowa, proposes the allotment of Channel 238A at Mineral Point, Wisconsin, as its first local service, and the substitution of Channel *254A, reserved for noncommercial educational (NCE) use, for vacant Channel *238A, reserved for NCE use, at Asbury, Iowa to accommodate a hybrid community of license application, proposing the substitution of Channel 236A for Channel 237A at Independence, Iowa, the reallotment of Channel 236A to Solon, Iowa, and the associated modification of the license of Station KQMG-FM. See File No. BPH-20070119AEI. To facilitate the hybrid community of license application and the proposed Asbury channel substitution, the Commission issue an order to show cause to Maquoketa Broadcasting Company, licensee of Station KMAQ-FM, Channel 236A, Maquoketa, Iowa, as to why KMAQ-FM's channel should not be changed to Channel 237A at Maquoketa. See Supplementary Information.

DATES: Comments must be filed on or before September 22, 2008, and reply comments on or before October 7, 2008.

ADDRESSES: Secretary, Federal Communications Commission, 445 Twelfth Street, SW., Washington, DC 20554. In addition to filing comments with the FCC, interested parties should serve the petitioner, as follows: Jeffrey L. Timmons, Esq., Counsel to KM Radio of Independence, LLC, 1400 Buford Highway, Suite G-5, Sugar Hill, Georgia 30518.

FOR FURTHER INFORMATION CONTACT: Rolanda F. Smith, Media Bureau, (202) 418-2180.

SUPPLEMENTARY INFORMATION: This is a synopsis of the Commission's Notice of Proposed Rule Making, MB Docket No. 08-150, adopted July 30, 2008, and released August 1, 2008. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

A staff engineering analysis confirms that Channel 238A can be allotted to Mineral Point consistent with the minimum distance separation requirements of the Commission's rules at city reference coordinates 42-51-36 NL and 90-10-47 WL. Additionally, a staff engineering analysis indicates that Channel *254A can be allotted to Asbury consistent with the minimum distance separation requirements of the Rules with a site restriction 3.7 kilometers (2.3 miles) southwest of the community located at reference coordinates 42-29-23 NL and 90-46-56 WL. Moreover, Channel 237A can be allotted at Station KMAQ-FM's current licensed site at coordinates 42-05-26 NL and 90-37-43 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Iowa, is amended by removing Channel *238A and by adding Channel *254A at Asbury.

3. Section 73.202(b), the Table of FM Allotments under Wisconsin, is amended by adding Mineral Point, Channel 238A.

Federal Communications Commission.
Robert A. Haynes,
Senior Attorney.

[FR Doc. E8-19647 Filed 8-25-08; 8:45 am]

BILLING CODE 6712-01-P